DEPARTMENT OF COMMERCE

National Oceanic and Atmospheric Administration

RIN 0648-XX47

Marine Mammals; File No. 14097

AGENCY: National Marine Fisheries Service (NMFS), National Oceanic and Atmospheric Administration (NOAA), Commerce.

ACTION: Notice; issuance of permit amendment.

SUMMARY: Notice is hereby given that a major amendment to Permit No. 14097-04 has been issued to the National Marine Fisheries Service, Southwest Fisheries Science Center (SWFSC) (Responsible Party: Lisa Ballance, Ph.D.), Protected Resources Division, 8901 La Jolla Shores Drive, La Jolla, CA 92037.

ADDRESSES: The permit amendment and related documents are available for review upon written request or by appointment in the Permits and Conservation Division, Office of Protected Resources, NMFS, 1315 East-West Highway, Room 13705, Silver Spring, MD 20910; phone: (301) 427-8401; fax (301) 713-0376.

FOR FURTHER INFORMATION CONTACT: Amy Hapeman or Courtney Smith, (301) 427-8401.

SUPPLEMENTARY INFORMATION: On April 2, 2014 notice was published in the Federal Register (79 FR 18527) that a request for an amendment to Permit No. 14097-03 to conduct research on humpback whales (Megaptera novaeangliae), had been submitted by the above-named organization. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 14097-05 authorizes the SWFSC to conduct scientific research on five pinniped species, 57 cetacean species, and five sea turtle species in U.S. territorial and international waters of the Pacific, Southern, Indian, and Arctic Oceans for three projects. Cetacean surveys are conducted to determine the abundance, distribution, movement patterns, and stock structure of cetaceans. These studies are conducted through vessel surveys, aerial surveys, small plane photogrammetry, photo-identification, biological sampling, radio tagging, and satellite tagging. The amendment to the permit authorizes: (1) A subset of humpback whales to be biopsy sampled multiple times annually in the Southern Ocean, and (2) extends the duration of the permit by 12 months. The permit amendment is valid through June 30, 2016.

A supplemental environmental assessment (SEA) analyzing the effects of the permitted activities on the human environment was prepared in compliance with the National Environmental Policy Act of 1969 (42 U.S.C. 4321 et seq.) for the permit. Based on the analysis in the SEA, NMFS determined that issuance of the amended permit would not significantly impact the quality of the human environment and that preparation of an environmental impact statement was not required. That determination is documented in a Finding of No Significant Impact (FONSI), signed on December 17, 2014.

As required by the ESA, issuance of the permit amendment was based on a finding that such permit: (1) Was applied for in good faith; (2) will not operate to the disadvantage of such endangered species; and (3) is consistent with the purposes and policies set forth in section 2 of the ESA.

Dated: December 22, 2014.
Julia Harrison,
Chief, Permits and Conservation Division, Office of Protected Resources, National Marine Fisheries Service.

[FR Doc. 2014-30394 Filed 12-29-14; 8:45 am]

BILLING CODE 3510-22-P